DEPARTMENT OF HOMELAND SECURITY

[Docket No. DHS-2011-0025]

National Emergency Communications Plan (NECP) Tribal Report

AGENCY: National Protection and Programs Directorate, DHS.

ACTION: 30-Day notice and request for comments; New Information Collection Request: 1670-NEW.

SUMMARY: The Department of Homeland Security (DHS), National Protection and Programs Directorate (NPPD), Office of Cybersecurity and Communications (CS&C), Office of Emergency Communications (OEC), will submit the following information collection request (ICR) to the Office of Management and Budget (OMB) for review and clearance in accordance with the Paperwork Reduction Act of 1995 (Pub. L. 104-13, 44 U.S.C. Chapter 35). NPPD is soliciting comments concerning New Information Collection Request, National Emergency Communications Plan Tribal Report. DHS previously published this ICR in the Federal Register on April 20, 2011, at 76 FR 22114, for a 60-day public comment period. DHS received no comments. The purpose of this notice is to allow an additional 30 days for public comments.

DATES: Comments are encouraged and will be accepted until August 12, 2011. This process is conducted in accordance with 5 CFR 1320.10.

ADDRESSES: Interested persons are invited to submit written comments on the proposed information collection to the Office of Information and Regulatory Affairs. Comments should be addressed to OMB Desk Officer, Department of Homeland Security, Office of Civil Rights and Civil Liberties. Comments must be identified by “DHS-2011-0025” and may be submitted by one of the following methods:

• Federal eRulemaking Portal: http://www.regulations.gov.

• E-mail: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SUPPLEMENTARY INFORMATION: OEC, formed under Title XVIII of the Homeland Security Act of 2002, 6 U.S.C. 101 et seq., is required to develop the NECP, which will include identification of goals, timeframes, and appropriate measures to achieve interoperable communications capabilities. The NECP Tribal Report is designed to meet these statutory requirements.

OEC will use the information gained through the reports to track progress that tribes are making in implementing milestones and demonstrating goals of the NECP. The report will provide OEC with broader capability data across the lanes of the Interoperability Continuum, which are key indicators of consistent success in response-level communications.

Tribes with public safety capabilities (police, fire, emergency medical services, emergency managers, dispatchers, radio operators, government workers, etc.) will be responsible for collecting this information from their respective tribes. Tribal points of contact will complete and submit the report directly to OEC through paper mailing at DHS/NPPD/CS&C/OEC, Ryan Oremland, 245 Murray Lane, SW., Mailstop 0614, Washington, DC 20528-0614 or unclassified electronic submission to NECPgoals@hq.dhs.gov.

Analysis

Agency: Department of Homeland Security, National Protection and Programs Directorate.

Title: National Emergency Communications Plan Tribal Report.

OMB Number: 1670-NEW.

Frequency: Annually.

Affected Public: Tribal Governments.

Number of Respondents: 250 respondents.

Estimated Time per Respondent: 30 minutes.

Total Burden Hours: 125 annual burden hours.

Total Burden Cost (capital/startup): $0.

Total Burden Cost (operating/maintaining): $3,052.50.

Dated: June 29, 2011.
David Epperson,
Chief Information Officer, National Protection and Programs Directorate, Department of Homeland Security.

[FR Doc. 2011-17545 Filed 7-12-11; 8:45 am]

BILLING CODE P